DEPARTMENT OF HEALTH AND HUMAN SERVICES

Centers for Disease Control and Prevention; Public Health Service Act; Delegation of Authority

Notice is hereby given that I have delegated to the Director, Centers for Disease Control and Prevention (CDC) and the Administrator, Agency for Toxic Substances and Disease Registry (ATSDR), with authority to redelegate, all of the authorities vested in the Secretary of Health and Human Services, under Title III of the Public Health Service Act, Part B—Loan Repayment Program, Section 317F (42 U.S.C. 247b-7), as amended hereafter, as they pertain to the functions of CDC and ATSDR.

This delegation shall be exercised under the Department's existing delegation of authority and policy on regulations.

This delegation became effective upon date of signature.

Dated: May 7, 2002.
Tommy G. Thompson,
Secretary.

[FR Doc. 02-12131 Filed 5-14-02; 8:45 am]

BILLING CODE 4160-18-M